DEPARTMENT OF THE INTERIOR

Bureau of Land Management

[WYW 183391]

Public Land Order No. 7855; Withdrawal of National Forest System Land for the Burgess Junction Visitor Center and Administrative Site; Wyoming

AGENCY: Bureau of Land Management, Interior.

ACTION: Public Land Order.

SUMMARY: On behalf of the United States Forest Service, this order withdraws, subject to valid existing rights, 73 acres of National Forest System land in the Bighorn National Forest from location and entry under the United States mining laws, but not from leasing under the mineral leasing laws, for a period of 20 years to protect capital improvements constructed for the Burgess Junction Visitor Center and Administrative Site.

DATES: This Public Land Order is effective on August 30, 2016.

FOR FURTHER INFORMATION CONTACT: Gayle Laurent, USDA Forest Service, Region 2, Supervisors Office, 2013 Eastside Second Street, Sheridan, Wyoming 82801; telephone 307-674-2656; email glaurent@fs.fed.us; or Janelle Wrigley, BLM Wyoming State Office, 5353 Yellowstone Road, Cheyenne, Wyoming 82009; telephone 307-775-6257; email jwrigley@blm.gov. Persons who use a telecommunications device for the deaf (TDD) may call the Federal Information Relay Service (FIRS) at 1-800-877-8339 to contact the above individuals. The FIRS is available 24 hours a day, 7 days a week, to leave a message or question with the above individuals. You will receive a reply during normal business hours.

SUPPLEMENTARY INFORMATION: The Burgess Junction Visitor Center and Administrative Site was constructed in the mid-1990s. Burgess Junction attracts an estimated 200,000 visitors per year because of its proximity to two major travel corridors, both designated as “National Forest Scenic Byways.”

Order

By virtue of the authority vested in the Secretary of the Interior by Section 204 of the Federal Land Policy and Management Act of 1976, 43 U.S.C. 1714, it is ordered as follows:

1. Subject to valid existing rights, the following described National Forest System land is hereby withdrawn from location and entry under the United States mining laws, but not from leasing under the mineral leasing laws, to protect the capital improvements constructed for the Burgess Junction Visitor Center and Administrative Site:

Big Horn National Forest

Sixth Principal Meridian, Wyoming

T. 56 N., R. 88 W.,

Sec. 31, S½NE¼NE¼NE¼, S½NW¼NE¼NE¼, S½NE¼NE¼, N½SE¼NE¼, N½SW¼SE¼NE¼, and SE¼SE¼NE¼, those portions lying northwesterly of the centerline of United States Highway 14;

Sec. 32, S½NW¼NW¼NW¼, SW¼NW¼NW¼, and NW¼SW¼NW¼, those portions lying northeasterly of the centerline of United States Highway 14.

The area described contains approximately 73 acres in Sheridan County.

2. The withdrawal made by this order does not alter the applicability of the public land laws other than under the United States mining laws.

3. This withdrawal will expire 20 years from the effective date of this order, unless, as a result of a review conducted before the expiration date pursuant to Section 204(f) of the Federal Land Policy and Management Act of 1976, 43 U.S.C. 1714(f), the Secretary determines that the withdrawal shall be extended.

Dated: August 9, 2016.
Janice M. Schneider,
Assistant Secretary—Land and Minerals Management.

[FR Doc. 2016-20718 Filed 8-29-16; 8:45 am]

BILLING CODE 3410-11-P